DEPARTMENT OF THE INTERIOR

Bureau of Land Management

[BLM_AK_FRN_MO4500171989; F-86061, F-16301, AA-65515, F-16302, AA-61299, F-16304, F-85667, AA-61005]

Public Land Order No. 7929; Partial Revocation of Public Land Order Nos. 5169, 5173, 5174, 5178, 5179, 5180, 5184, and 5186, as Amended, Modified, and Corrected, and Opening of Additional Lands for Selection by Alaska Native Vietnam-Era Veterans; Alaska

AGENCY: Bureau of Land Management, Interior.

ACTION: Public Land Order.

SUMMARY: This order partially revokes 8 Public Land Orders (PLOs) insofar as they affect approximately 812,956.96 acres of public lands reserved for study and classification, as appropriate, by the Department of the Interior. This order opens these lands specifically to allow for allotment selection by eligible Alaska Native Vietnam-era Veterans and possible conveyance under the Alaska Native Vietnam-era Veterans Land Allotment Program (Allotment Program) established by the John D. Dingell, Jr. Conservation, Management, and Recreation Act of 2019 (Dingell Act). The Bureau of Land Management (BLM) analyzed partial revocation of these PLOs and opening of the affected lands for allotment selections and possible conveyances in the Alaska Native Vietnam-era Veterans Land Allotment Program Environmental Assessment (Allotment Program EA) and Finding of No Significant Impact (FONSI) signed on April 21, 2022.

DATES: This PLO takes effect on August 9, 2023.

FOR FURTHER INFORMATION CONTACT: Brittany Templeton, Bureau of Land Management (BLM) Alaska State Office, 222 West Seventh Avenue, Mailstop #13, Anchorage, AK 99513-7504, (907) 271-4214, or btempleton@blm.gov. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: Sec. 17(d)(1) of Alaska Native Claims Settlement Act (ANCSA) states that “the Secretary is authorized to classify or reclassify any public lands [so] withdrawn and to open such lands to appropriation under the public land laws in accord with [her] classifications.” The BLM prepared the Allotment Program EA to evaluate opening public lands subject to ANCSA section 17(d)(1) withdrawals within the Kobuk-Seward Peninsula, Ring of Fire, Bay, Bering Sea—Western Interior, and East Alaska planning areas to selection of allotments by eligible Alaska Native Vietnam-era Veterans under the Allotment Program. The Allotment Program EA evaluated four alternatives, including a no action alternative as well as three action alternatives that only differed in the number of acres of land to be opened. Alternative B opened approximately 27.8 million acres, Alternative C opened approximately 27 million acres, and Alternative D opened approximately 25.7 million acres. The Allotment Program EA supported a FONSI for one or more Secretarial decisions to open all or some of the lands under consideration to allotment selection under the Allotment Program.

On August 15, 2022, PLO No. 7912 implemented Alternative C as detailed in the Allotment Program EA and FONSI by partially revoking 15 PLOs as they affected 27,142,446 acres of public lands and opening the lands for selection under the Allotment Program. Alternative C is the same as Alternative B in every material aspect with the only difference between the alternatives being that Alternative C opened approximately 800,000 fewer acres of land than Alternative B. This Order has the effect of implementing the remainder of Alternative B as detailed in the Allotment Program EA and FONSI by revoking in part 8 of the 15 PLOs partially revoked by PLO 7912 and opening additional lands to native allotment selection and possible conveyance that were not opened by PLO No. 7912. The analysis completed pursuant to Sec. 810 of the Alaska National Interest Lands Conservation Act included in the Allotment Program EA found no significant restriction on subsistence uses due to this action.

PLO Nos. 5169, 5173, and 5174, as amended, modified, or corrected, withdrew public lands for selection by Village and Regional Corporations under sec. 11(a)(3) of ANCSA, and for classification. PLO No. 5178, as amended, modified, or corrected, withdrew public lands for selection by Regional Corporations under sec. 11(a)(3) of ANCSA. PLO No. 5179, as amended, modified, or corrected, withdrew public lands in aid of legislation concerning addition to, or creation of, units of the National Park, National Forest, Wildlife Refuge, and Wild and Scenic Rivers systems, and to allow for classification of the lands. PLO No. 5180, as amended, modified, or corrected, withdrew public lands to allow for classification and for the protection of the public interest in these lands. PLO No. 5184, as amended, modified, or corrected, withdrew public lands to allow for classification or reclassification of some of areas withdrawn by Sec. 11 of ANCSA. PLO No. 5186, as amended, modified, or corrected, withdrew public lands for classification and protection of the public interest in lands not selected by the State of Alaska.

Order

By virtue of the authority vested in the Secretary of the Interior by Section 204 of the Federal Land Policy and Management Act of 1976, 43 U.S.C. 1714, and Section 17(d)(1) of the Alaska Native Claims Settlement Act of 1971, 43 U.S.C. 1616(d)(1), it is ordered as follows:

1. Subject to valid existing rights, Public Land Orders No. 5169 (37 FR 5572), 5173 (37 FR 5575), 5174 (37 FR 5576), 5178 (37 FR 5579), 5179 (37 FR 5579), 5180 (37 FR 5583), 5184 (37 FR 5588), and 5186 (37 FR 5589), and any amendments, modifications, or corrections to these Orders, are hereby partially revoked to allow for allotment selection under the Allotment Program, and for no other purposes, insofar as they affect the following described Federal lands in the Kobuk-Seward Peninsula, Ring of Fire, Bay, Bering Sea—Western Interior, and East Alaska planning areas, excepting any lands within 500 feet of the Iditarod National Historic Trail, and any lands within ¼ mile of cultural resource sites, including lands applied for by regional corporations pursuant to ANCSA section 14(h)(1) and known cultural resources sites identified in the Allotment Program EA. The exact locations of these sites are withheld to limit the risk of harm to the cultural resource or site where the resource is located. If an applicant is interested in a particular location, they should contact the BLM to ensure that their application does not overlap with areas excluded from this PLO because of known cultural resource sites or the Iditarod National Historic Trail. Subject to these exclusions, the lands to be opened are described as follows:

Kobuk—Seward Peninsula Resource Management Plan (RMP)

Kateel River Meridian, Alaska

T. 21 N., R. 13 W., unsurveyed,

secs. 4 and 5.

T. 22 N., R. 13 W., unsurveyed,

sec. 22, N1/2;

sec. 27 and secs. 31 thru 34.

T. 2 N., R. 42 W.,

secs. 21, 26, and 27.

T. 8 S., R. 19 W.,

T. 9 S., R. 21 W.,

tract A, that portion within sec. 1.

T. 9 S., R. 31 W., unsurveyed,

secs. 19, 20, and 21.

T. 6 S., R. 32 W., unsurveyed,

sec. 4, that portion within Power Site Classification No. 726;

sec. 33, S1/2NE1/4, SE1/4NW1/4, E1/2SW1/4, and SE ¼;

sec. 34, W1/2SW1/4.

T. 4 S., R 33 W.,

tract DD, that portion within sec. 32.

T. 5 S., R. 33 W., unsurveyed,

secs. 5 thru 8, secs. 16 thru 21, and secs. 29 thru 32.

T. 6 S., R. 33 W., unsurveyed.

Umiat Meridian, Alaska

T. 4 S., R. 42 W.,

secs. 18, 19, 30, and 31.

T. 3 S., R. 43 W.,

secs. 13 thru 36.

T. 4 S., R. 43 W.,

secs. 13 thru 36.

T. 6 S., R. 43 W.,

sec. 7 and secs. 13 thru 31.

T. 2 S., R. 44 W.,

secs. 31 thru 36.

T. 3 S., R. 44 W.,

secs. 9 thru 14 and secs. 23 and 24.

T. 4 S., R. 44 W.,

secs. 21 thru 28, and secs. 33 thru 36.

T. 5 S., R. 44 W.,

secs. 1 thru 6.

T. 6 S., R. 44 W.,

T. 6 S., R. 45 W.,

secs. 1 thru 3 and secs. 7 thru 36.

The areas described aggregate approximately 174,605.38 acres.

Ring of Fire RMP

Seward Meridian, Alaska

T. 13 N., R. 1 E.,

secs. 4, 5, 6, 8, 9, 10, 15, 16, 21, and 22, those portions lying within Power Site Classification No. 107.

T. 14 N., R. 2 E.,

sec. 1, NE¼NE¼NE¼, E½NW¼NE¼NE¼, NE¼SW¼NE¼NE¼, and N½SE¼NE¼NE¼.

T. 15 N., R. 2 E.,

sec. 36, lot 5.

T. 17 N., R. 2 E.,

sec. 35, lots 16 and 18.

T. 16 N., R. 3 E.,

sec. 3, lot 1;

sec. 4, lots 1, 2, and 4;

sec. 5, lots 1 thru 4, lot 6, NW¼SW¼, S½SW¼, N½SW¼SE¼, N½SW¼SW¼SE¼, N½SE¼SW¼SE¼, and SE¼SE¼;

sec. 6, lots 2 thru 6, lots 8 and 9, E½SW¼, and SE¼;

sec. 9, lots 1 thru 4, SW¼NE¼, E½NE¼NW¼NW¼, NW¼NE¼NW¼NW¼, N½NW¼NW¼NW¼, S½SW¼SW¼NW¼, S½SE¼SW¼NW¼, E½SE¼NW¼, E½NW¼SE¼NW¼, E½SW¼SE¼NW¼, SW¼SW¼SE¼NW¼, SW¼, N½NE¼NE¼SE¼, W½NE¼NW¼SE¼, W½NW¼SE¼, SE¼NW¼SE¼, and SW¼SE¼;

sec. 10, lots 1 thru 5, lot 8, N½NW¼SW¼, N½SE¼NW¼SW¼, N½NE¼SE¼SW¼, SE¼NE¼SE¼SW¼, NE¼SE¼SE¼SW¼, NW¼SW¼SE¼, N½SW¼SW¼SE¼, and SE¼SW¼SW¼SE¼;

sec. 14, lot 4, lots 7 thru 12, and SW¼SW¼;

sec. 15, lots 3 and 4, N½NE¼NW¼NE¼, SW¼, SW¼SW¼SW¼SE¼, and E½SE¼;

sec. 16, W½NE¼, W½, and SE¼;

sec. 22;

sec. 23, lots 4, 5, and 6, S½NE¼, N½NE¼NW¼, SE¼NE¼NW¼, W½NW¼, E½NE¼SE¼NW¼, W½SW¼SE¼NW¼, SW¼, W½NW¼NW¼SE¼, W½SW¼NW¼SE¼, and S½SE¼;

sec. 24, lots 1, 2, 3, and 6, E½SW¼, N½NW¼SW¼, N½SW¼NW¼SW¼, N½SE¼NW¼SW¼, and SE¼;

sec. 25, NE¼NE¼, E½NW¼NE¼, N½NW¼NW¼NE¼, SE¼NW¼NW¼NE¼, SW¼NW¼NE¼, SW¼NE¼, N½SE¼NE¼, NE¼NE¼NE¼NW¼, S½NE¼NW¼, S½NW¼NW¼, S½NW¼, SW¼, and W½SE¼;

secs. 26 and 36.

T. 19 N., R. 3 E.,

sec. 26, lot 10, that portion within the S½SW¼;

sec. 35, lot 2.

T. 13 N., R. 4 E., unsurveyed,

secs. 1, 11, 12, 14, 22, 23, 26, 27, and 34, those portions previously within Public Land Order No. 3324, more particularly described as ¼ mile landward and parallel with the ordinary high-water line of the left bank of the Knik River and the westerly bank of Lake George.

T. 14 N., R. 4 E., unsurveyed,

sec. 36, that portion previously within Public Land Order No. 3324, more particularly described as ¼ mile landward and parallel with the ordinary high-water line of the left bank of the Knik River and the westerly bank of Lake George.

T. 15 N., R. 4 E.,

sec. 1, lots 1 thru 6;

sec. 2, lots 1 and 2;

tract 37.

T. 16 N., R. 4 E.,

sec. 15, lots 6 thru 10;

sec. 16, lots 5 thru 21;

sec. 17, lots 4 thru 8;

sec. 18, lot 1;

sec. 19, lots 1 thru 4 and lots 7 thru 21;

sec. 20, lots 1 thru 5 and lots 8 thru 21;

sec. 21;

sec. 22, lots 2 thru 7 and lots 10 thru 17;

sec. 26, lots 2, 5, 6, and 7;

sec. 27, lots 1, 2, and 3, and lots 5 thru 18;

sec. 28;

sec. 29, lots 2 thru 18, E½NE¼, and W½SW¼;

sec. 30, W½SE¼SW¼SE¼;

sec. 31, lots 4, 8, and 9, NW¼NE¼, E½SW¼NE¼, N½NW¼SW¼NE¼, SE¼NW¼SW¼NE¼, E½SW¼SW¼NE¼, NE¼NW¼, S½NE¼SW¼NW¼, SE¼SW¼NW¼, S½NW¼SE¼NW¼, SW¼SE¼NW¼, W½SE¼SE¼NW¼, W½NE¼NE¼SW¼, W½SE¼NE¼SW¼, E½NW¼SW¼, W½NE¼SE¼SW¼, W½SE¼SE¼SW¼, E½SE¼, E½NW¼SE¼, E½NW¼NW¼SE¼, E½SW¼NW¼SE¼, E½SW¼SE¼, and NE¼NW¼SW¼SE¼;

sec. 32, lots 1, 2, and 3, N½NW¼, N½SW¼NW¼, NE¼SW¼SW¼NW¼, N½SE¼SW¼NW¼, SE¼SE¼SW¼NW¼, SE¼NW¼, and S½;

sec. 33, lots 1 thru 8, SW¼NE¼, SE¼NW¼, and S½;

sec. 34, lots 3, 6, 8, 10, 14, 15, 18 and 21;

sec. 35, lots 4, 5, 9, 10, and 11, SW¼SW¼.

T. 14 N., R. 5 E., unsurveyed,

secs. 4, 5, 8, 9, 16, 17, 19, and 20, and secs. 29 thru 32, those portions previously within Public Land Order No. 3324, more particularly described as ¼ mile landward and parallel with the ordinary high-water line of the left bank of the Knik River and the westerly bank of Lake George.

T. 15 N., R. 5 E., unsurveyed,

secs. 6, 7, 8, 17, 18, 20, 28, 29, 32 and 33, those portions previously within Public Land Order No. 3324, more particularly described as ¼ mile landward and parallel with the ordinary high-water line of the left bank of the Knik River and the westerly bank of Lake George.

T. 18 N., R. 5 E.,

sec. 4.

T. 21 N., R. 5 E.,

secs. 3, 9, 10, 16, 17, 19, 20, 30 and 31.

T. 22 N., R. 5 E.,

secs. 25, 26, 34, 35, and 36.

T. 19 N., R. 6 E.,

secs. 2, 3, 9, and 16, unsurveyed.

T. 21 N., R. 6 E.,

secs. 2, 3, 10, 11, 14, 15, 21, 22, 28, 29, 31, 32, and 33.

T. 22 N., R. 6 E.,

sec. 1, secs. 11 thru 14, and secs. 23, 26, 30, 31, and 35.

T. 19 N., R. 7 E., unsurveyed,

sec. 1.

T. 15 N., R. 1 W.,

sec. 31, lot 6.

T. 19 N., R. 1 W.,

U.S. Survey No. 5556.

T. 18 N., R. 3 W.,

sec. 22, N½NW¼, SW¼NW¼, N½SE¼NW¼, SW¼SE¼NW¼, and W½SE¼SE¼NW¼.

T. 19 N., R. 4 W.,

sec. 7, lot 6 and SE¼SW¼;

sec. 35, SE¼.

T. 20 N., R. 4 W.,

sec. 17, NE¼ and W½NW¼;

sec. 18, lots 1 thru 4 and SE¼NW¼.

T. 23 N., R. 4 W.,

sec. 6, lots 2 thru 7, excepting lot 12, U.S. Survey No. 9034.

T. 24 N., R. 4 W.,

sec. 6, lots 3, 4, and 5, SE¼NW¼, and SE¼SW¼, excepting lots 10 and 12, U.S. Survey No. 9035;

sec. 7, lots 1, 2, and 4, N½NE¼, SE¼SW¼, and SW¼SE¼, excepting lots 7, 8 and 9, U.S. Survey No. 9035;

sec. 17, E½SW¼ and W½SE¼;

sec. 20, NE¼NW¼.

T. 2 N., R. 11 W.,

sec. 18, lots 1 thru 4, NW¼NE¼, NE¼NW¼, and E½NW¼NW¼.

T. 5 N., R. 11 W.,

sec. 19, SE¼NE¼;

sec. 24, lot 5;

sec. 28, NW¼.

T. 2 N., R. 12 W.,

sec. 21, lot 1, SW¼NE¼, NE¼SE¼NE¼, W½SE¼NE¼, SE¼NW¼, NE¼SW¼, that portion of S½NE¼NE¼SE¼ and W½NE¼SE¼ excepting Interim Conveyance No. 782, and NW¼SE¼.

T. 3 N., R. 12 W.,

sec. 15, E½NE¼NW¼SE¼, SW¼NE¼NW¼SE¼, W½NW¼NW¼SE¼,

SE¼NW¼NW¼SE¼, S½NW¼SE¼, and SW¼SE¼;

sec. 21, N½SE¼, E½SW¼SE¼, N½NW¼SW¼SE¼, SE¼NW¼SW¼SE¼,

NE¼SW¼SW¼SE¼, S½SW¼SW¼SE¼, and SE¼SE¼;

sec. 25, lots 1 and 6.

T. 1 N., R. 13 W.,

sec. 13, N½SW¼SE¼SE¼ and N½SE¼SE¼SE¼;

sec. 23, lot 1;

sec. 24, S½SW¼NW¼NE¼ and SE¼NW¼NE¼.

T. 12 N., R. 20 W., unsurveyed,

secs. 5 thru 8, that portion within Power Site Classification No. 395.

T. 13. N., R. 20 W.,

tract B, that portion within Power Site Classification No. 395 previously excluded from the Tentative Approval for AA-6886 dated February 25, 2002.

T. 5 S., R. 14 W.,

sec. 33, SW¼.

T. 5 S., R. 26 W.,

sec. 36.

Copper River Meridian, Alaska

T. 77 S., R. 91 E., unsurveyed,

lots 2 and 3, U.S. Survey No. 3525.

The areas described aggregate approximately 47,895.51 acres.

Bay RMP

Seward Meridian, Alaska

T. 4 N., R. 31 W.,

tract A, that portion within secs. 32 and 33.

T. 5 S., R. 26 W.,

secs. 25 thru 28 and secs. 31 and 36.

T. 3 S., R. 31 W.,

sec. 26.

T. 10 S., R. 32 W.,

tract A, that portion within sec. 5.

T. 10 S., R. 42 W., unsurveyed,

secs. 1 and 2 and secs. 11 thru 14.

T. 17 S., R. 44 W.,

secs. 3 and 4.

T. 16 S., R. 45 W.,

secs. 7, 18, 19, 28, 29, and 30.

T. 17 S., R. 45 W.,

sec. 1;

sec. 22, N½NW¼SE¼ and N½S½NW¼SE¼;

sec. 23, NE¼, N½NW¼, SE¼NW¼, and N½SE¼;

sec. 24, S½N½SE¼SW¼ and SW¼SW¼SE¼;

sec. 25, W½NW¼NE¼, W½NW¼SW¼NE¼, SW¼SW¼SW¼NE¼, NE¼NW¼, and N½SE¼NW¼;

lots 3, 4, and 9, U.S. Survey No. 4688.

T. 5 S., R. 46 W.,

secs. 8, 16, and 17.

T. 18 S., R. 47 W.,

secs. 2 thru 6 and secs. 10 and 11.

T. 18 S., R. 48 W.,

sec. 1.

The areas described aggregate approximately 22,679.10 acres.

Bering Sea—Western Interior RMP

Fairbanks Meridian, Alaska

T. 12 S., R. 23 W.,

secs. 28 thru 33, unsurveyed.

T. 12 S., R. 27 W., unsurveyed.

Kateel River Meridian, Alaska

T. 27 S., R. 12 E.,

Tract A, that portion within Air Navigation Site No. 140, Mineral Survey No. 2394, and Mineral Survey No. 2395.

T. 24 S., R. 22 E., unsurveyed.

Seward Meridian, Alaska

T. 25 N., R. 22 W.,

U.S. Survey No. 14206.

T. 26 N., R. 22 W.,

U.S. Survey No. 14206.

T. 29 N., R. 35 W.,

tracts A thru F.

T. 30 N., R. 35 W.,

sec. 11.

T. 33 N., R. 35 W.,

secs. 5 and 6.

T. 20 N., R. 37 W., unsurveyed,

sec. 16, that portion within regional selection application AA-10414 excluded from Tentative Approval 2008-0159, Serial No. AA-76403, dated July 18, 2008, except for U.S. Survey No. 14317.

T. 18 N., R. 38 W.,

secs. 29 thru 32.

T. 15 N., R. 51 W.,

sec. 9, SE¼SE¼SE¼, excepting U.S. Survey No. 14319;

sec. 15, NW¼NW¼, N½SW¼NW¼, and SW¼SW¼NW¼, excepting U.S. Survey No. 14319;

sec. 16, NE¼NE¼NE¼, S½NE¼NE¼, N½SE¼NE¼, and SE¼SE¼NE¼, excepting U.S. Survey No. 14319;

U.S. Survey No. 14319.

T. 16 N., R. 51 W.,

sec. 19.

T. 18 N., R. 51 W.,

secs. 25 thru 36.

T. 13 N., R. 59 W., unsurveyed,

secs. 3, 4, 9, and 10;

sec. 15, excepting U.S. Survey No. 5238;

sec. 16;

sec. 21, excepting U.S. Survey No. 5238 and U.S. Survey No. 14187;

sec. 22, excepting U.S. Survey No. 5238;

sec. 27;

sec. 28, excepting U.S. Survey No. 14187;

U.S. Survey No. 14187.

T. 20 N., R. 69 W.,

sec. 6.

The areas described aggregate approximately 88,127.26 acres.

East Alaska RMP

Copper River Meridian, Alaska

T. 8 N., R. 1 E.,

secs. 1 thru 24 and secs. 28 thru 33.

T. 9 N., R. 2 E.,

secs. 7, 18, and 27.

T. 9 N., R. 3 E.,

sec. 23;

sec. 26, lots 1 thru 4, W½NE¼, and W½;

sec. 35, lots 2 thru 19, W½NW¼, and W½SW¼.

T. 10 N., R. 3 E.,

secs. 3 and 24.

T. 11 N., R. 4 E., unsurveyed,

secs. 3, 4, 5, 8, 17, 20, 29, and 32.

T. 12 N., R. 4 E., unsurveyed,

secs. 27, 28, 33, and 34, excepting U.S. Survey No. 14338;

U.S. Survey No. 14338.

T. 11 N., R. 5 E.,

U.S. Survey No. 11038.

T. 14 N., R. 7 E., unsurveyed,

secs. 9, 14, 15, and 16, secs. 21 thru 26, and secs. 35 and 36.

T. 11 N., R. 8 E.,

secs. 1, 2, 11, and 12, partly unsurveyed;

sec. 13, excepting U.S. Survey No. 6738, partly unsurveyed;

sec. 14, lots 1 thru 4, N½, N½SW¼, SE¼SW¼, NW¼SE¼, and that portion lying southerly of the left bank of the Slana River, excepting U.S. Survey No. 6738, partly unsurveyed;

sec. 15, lot 1, N½, SW¼, N½SE¼, and SW¼SE¼, partly unsurveyed;

secs. 16 and 17, partly unsurveyed;

sec. 19, lots 1 and 2, N½, E½SW¼, N½SE¼, N½SW¼SE¼, W½SW¼SW¼SE¼, and N½SE¼SE¼, excepting U.S. Survey No. 7109, partly unsurveyed;

sec. 20, lots 1 thru 4, N½, E½NE¼SW¼, E½SW¼SW¼SW¼, SE¼SW¼SW¼, and SE¼, excepting U.S. Survey Nos. 7109 and 11235, partly unsurveyed;

sec. 21, lots 1 thru 8, NE¼SE¼NE¼, E½NW¼SE¼NE¼, W½NW¼, SE¼NW¼, N½SW¼, SW¼SW¼, and that portion lying southerly of the left bank of the Slana River, partly unsurveyed;

sec. 22, lots 1, 2, 3, 5, 6, 10, and 11, N½NW¼NE¼, N½SW¼NW¼NE¼, N½SW¼SW¼NW¼NE¼, N½SE¼SW¼NW¼NE¼, SE¼NW¼NE¼, N½NW¼, and that portion lying southerly of the left bank of the Slana River, excepting U.S. Survey No. 3343 A, partly unsurveyed;

sec. 23, lots 1 thru 5, NE¼NW¼, S½NW¼, and that portion lying southerly of the left bank of the Slana River, excepting U.S. Survey Nos. 3343 A and 6738, partly unsurveyed;

sec. 28, lot 1;

sec. 29, lots 1, 2, and 3, lots 6 thru 9, NE¼NW¼, NE¼NW¼NW¼, E½NW¼NW¼NW¼, and that portion lying southerly of the left bank of the Slana River and outside the boundary of the Wrangell—St. Elias National Preserve, partly unsurveyed;

sec. 30, lots 3, 4, 5, 7, 8, and 9, W½NW¼NW¼NE¼, SW¼NW¼NE¼, and E½NW¼;

T. 12 N., R. 8 E.,

sec. 36.

T. 14 N., R. 8 E.,

secs. 31, 35, and 36.

T. 12 N., R. 9 E.,

secs. 1, 2, 5, 8, 17, 29, and 31;

sec. 32, lot 2;

tracts B thru J;

lot 2, U.S. Survey No. 4659.

T. 14 N., R. 9 E.,

sec. 27;

tract C.

T. 10 N., R. 10 E., unsurveyed,

secs. 1, 2, and 3;

secs. 4 and 9, those portions lying outside the boundary of the Wrangell-St. Elias National Park;

secs. 10 thru 14;

secs. 15, 16, 22, 23, and 24, those portions lying outside the boundary of the Wrangell-St. Elias National Park.

T. 11 N., R. 10 E., unsurveyed,

secs. 1 thru 29;

sec. 30, excepting U.S. Survey Nos. 5294 and 14336;

sec. 31, excepting U.S. Survey No. 14336;

secs. 32 thru 36;

U.S. Survey No. 14336.

T. 11 N., R. 11 E., unsurveyed.

T. 4 N., R. 1 W.,

sec. 19, lots 34, 35, 117, and 118, and lots 120 thru 124.

T. 7 N., R. 1 W.,

sec. 1;

sec. 2, lots 1 thru 6, S1/2NE1/4, S1/2NW1/4, and N1/2SE1/4;

sec. 12, lot 1, NE1/4, NE1/4NW1/4, S1/2NW1/4, NE1/4SW1/4, S1/2SW1/4, and SE1/4;

secs. 13, 24, 25, and 36;

tract B, those portions within secs. 5 and 6, and secs. 16 thru 20.

T. 8 N., R. 1 W.,

secs. 22 and 27.

T. 4 N., R. 2 W.,

sec. 30, lots 6 and 7;

lots 1 and 2, U.S. Survey No. 10676.

T. 5 N., R. 2 W.,

secs. 26, 27, 34, 35, and 36.

T. 7 N., R. 2 W.,

secs. 1 thru 11, secs. 14 thru 24, and secs. 27 thru 34.

T. 9 N., R. 2 W., partly unsurveyed,

tract C;

tract D, that portion within sec. 7, secs. 16 thru 21, and secs. 28 thru 33.

T. 12 N., R. 2 W., partly unsurveyed,

tract A, that portion within Public Land Order No. 225;

tracts C and D.

T. 13 N., R. 2 W., partly unsurveyed,

tract A, those portions in secs. 1 and 2 within Public Land Order No. 225, those portions within secs. 3 thru 10, those portions in secs. 11, 12, and 14 within Public Land Order No. 225, those portions within secs. 15 thru 22, that portion in sec. 23 within Public Land Order No. 225, that portion within sec. 26, that portion in sec. 27 within Public Land Order No. 225, those portions of secs. 28 thru 31, that portion in sec. 32 within Public Land Order No. 225, that portion within sec. 33, and that portion in sec. 34 within Public Land Order No. 225;

tract B, those portions within secs. 1, 12, 13, 24, 25, and 34, excepting U.S. Survey No. 14433, that portion in sec. 35 within Public Land Order No. 225, and that portion within sec. 36.

T. 14 N., R. 2 W., unsurveyed,

secs. 31 thru 34;

sec. 35, that portion within Public Land Order 225;

sec. 36, excepting lots 2 and 3, U.S. Survey No. 2705, lots 2 and 3, U.S. Survey No. 2705A, U.S. Survey No. 2706, U.S. Survey No. 2706A, U.S. Survey No. 2707, U.S. Survey No. 2707A, U.S. Survey No. 2717, U.S. Survey No. 2717A, and U.S. Survey No. 4182;

lot 3, U.S. Survey No. 2705A;

lot 2, U.S. Survey No. 2706A;

U.S. Survey No. 2707A;

lot 2, U.S. Survey No. 2717A.

T. 3 N., R. 3 W.,

secs. 13 thru 16, secs. 20 thru 29, and secs. 32 thru 36.

T. 4 N., R. 3 W.,

secs. 1 thru 10.

T. 6 N., R. 3 W.,

sec. 12, lot 1.

T. 7 N., R. 3 W.,

secs. 2, 3, and 4, and secs. 6 thru 10.

T. 12 N., R. 3 W., partly unsurveyed,

sec. 3, SW1/4, W1/2SE1/4, and SE1/4SE1/4;

secs. 4, 5, 8, 9, 10, 15, 16, and 17.

T. 13 N., R. 5 W., partly unsurveyed,

tract A, that portion within secs. 2, 3, 10, 11, and 12;

tracts E and F;

U.S. Survey No. 14337.

T. 4 N., R. 8 W.,

tract A, those portions within secs. 2 and 3, within regional selection application AA-11124, excepting U.S. Survey No. 13862, and sec. 23 within regional selection application AA-11124, all excluded from TA 1982-0107.

T. 10 N., R. 10 W., unsurveyed,

secs. 2, 3, 4, 9, 10, and 11, those portions within Power Site Classification No. 443.

T. 8 S., R. 1 W., unsurveyed,

sec. 10, W1/2NE1/4, SE1/4NE1/4, NW1/4, E1/2SW1/4, SW1/4SW1/4, and SE1/4;

sec. 11, N1/2NE1/4, E1/2NW1/4, SW1/4NW1/4, SE1/4SW1/4, and SE1/4;

sec. 12, E1/2NE1/4, NW1/4NE1/4, and S1/2SE1/4;

sec. 13, S1/2NE1/4, NW1/4, and SE1/4;

sec. 14, NE1/4NE1/4, S1/2SW1/4, and SE1/4;

sec. 15, NE1/4 and SW1/4;

sec. 16, W1/2NE1/4, SE1/4NE1/4, NW1/4, and S1/2SE1/4;

sec. 17, NE1/4NE1/4 and NW1/4;

sec. 18, E1/2SW1/4, NW1/4SW1/4, and SE1/4.

T. 2 S., R. 4 W., unsurveyed,

sec. 31.

T. 3 S., R. 4 W., unsurveyed,

secs. 6, 17, and 20.

T. 1 S., R. 7 W.,

secs. 20, 21, and 28.

T. 1 S., R. 2 E.,

secs. 28 thru 30;

sec. 31, lots 1 thru 4, NE1/4, E1/2NW1/4, and E1/2SW1/4;

secs. 32 and 33;

sec. 34, N1/2, SW1/4, N1/2SE1/4, and N1/2N1/2SW1/4SE1/4.

T. 2 S., R. 3 E.,

secs. 16, 17, 18, 21, and 22;

sec. 25, lots 2 thru 7 and S1/2NE1/4;

secs. 26 and 27;

Lot 12, U.S. Survey No. 3579.

T. 2 S., R. 4 E.,

sec. 20, lot 7;

sec. 27, lots 11, 12, and 14, SE1/4NW1/4, and N1/2SW1/4SW1/4;

sec. 29, lots 1 thru 13, S1/2NE1/4, and S1/2NW1/4;

sec. 30, lots 1 thru 20, NW1/4SW1/4NE1/4, S1/2SW1/4NE1/4, S1/2SE1/4NE1/4, and SE1/4NW1/4;

secs. 31 and 32;

sec. 33, lots 2 and 3, and lots 5 thru 15;

sec. 34, lot 1, lots 17 thru 29, and lot 31;

sec. 35, lot 14, excepting IC Nos. 947 and 948;

tract B, U.S. Survey No. 3334;

lots 3, 4, and 5, U.S. Survey No. 11761, excepting IC Nos. 947 and 948.

Fairbanks Meridian, Alaska

T. 19 S., R. 1 W., unsurveyed,

U.S. Survey No. 14473.

T. 18 S., R. 3 W., unsurveyed,

secs. 29, 35 and 36.

T. 19 S., R. 3 W., unsurveyed,

secs. 1 and 2, excepting lots 1 thru 4, U.S. Survey No. 3523, and lot 1, U.S. Survey No. 4317;

sec. 10;

sec. 11, excepting, lots 2 and 3, U.S. Survey No. 3523, and lots 1 and 3, U.S. Survey No. 4317;

secs. 12, 14, and 15;

lot 2, U.S. Survey No. 4317.

T. 18 S., R. 4 W., unsurveyed,

U.S. Survey No. 14472.

Tps. 16 and 20 S., R. 5 W., unsurveyed.

T. 15 S., R. 6 W.,

secs. 3 and 10;

sec. 15, NE1/4, SW1/4, and S1/2SE1/4.

T. 17 S., R. 6 W.,

sec. 33.

T. 18 S., R. 6 W.,

secs. 11, 19, and 20.

Tps. 19 and 20 S., R. 6 W., unsurveyed.

T. 17 S., R. 7 W.,

lot 6, U.S. Survey No. 5596.

T. 18 S., R. 7 W.,

sec. 3, lot 2, that portion excluded from the Interim Conveyance No. 443 as Native Allotment F-15557;

sec. 16, excepting U.S. Survey No. 13992;

secs. 17 and 30;

lot 39, U.S. Survey No. 3229.

T. 20 S., R. 7 W., unsurveyed.

T. 18 S. R. 8 W.,

sec. 1, lots 1 thru 3;

secs. 12, 25, 35, and 36.

T. 19 S. R. 8 W.,

sec. 9.

T. 20 S., R. 8 W., unsurveyed.

T. 19 S., R. 9 W.,

secs. 3, 10, 20, 24, 25, 34 and 35.

T. 20 S., R. 1 E., unsurveyed,

sec. 4, that portion within regional selection AA-11125 Parcel K;

sec. 21;

sec. 23, those portions within regional selections AA-11127, AA-58729, AA-58730, and AA-58731;

sec. 24, those portions within regional selections AA-11127, AA-58728, AA-58732, AA-58733, AA-58734, and AA-58735;

lots 1, 3, and 5, U.S. Survey No. 14342.

T. 21 S., R. 1 E., unsurveyed,

sec. 10, that portion within Public Land Order No. 1536;

secs. 25, 26, 35, and 36.

T. 22 S., R. 1 E., unsurveyed,

secs. 1 and 12.

T. 20 S., R. 2 E., unsurveyed,

secs. 11, 12, and 13, excepting M.S. Nos. 2494, 2495, and 2496.

T. 21 S., R. 2 E., unsurveyed,

sec. 30, S1/2SW1/4NW1/4, S1/2SE1/4NW1/4, and SW1/4;

secs. 31 and 32.

T. 22 S., R. 2 E., unsurveyed,

secs. 5 thru 8;

sec. 30, those portions within regional selections AA-11125 Parcel V and AA-11127 Parcel V.

T. 21 S., R. 6 E., unsurveyed,

lot 2, U.S. Survey No. 4242.

T. 21 S., R. 7 E., unsurveyed,

secs. 6 thru 8, those portions lying southerly and westerly of the centerline of the Denali Highway;

sec. 14, that portion lying southerly of the centerline of the Denali Highway, excepting U.S. Survey Number 14511;

sec. 17, that portion lying westerly of the centerline of the Denali Highway;

secs. 18 and 19;

sec. 20, that portion lying southerly and westerly of the centerline of the Denali Highway;

sec. 23, that portion lying southerly and easterly of the centerline of the Denali Highway;

sec. 24, excepting U.S. Survey Nos. 12147 and 14511;

secs. 25 thru 36.

T. 21 S., R. 8 E., unsurveyed,

secs. 16, 17 and 18, those portions lying southerly of the centerline of the Denali Highway;

sec. 19;

secs. 20 thru 27, those portions lying southerly of the centerline of the Denali Highway;

secs. 28 thru 36.

T. 21 S., R. 9 E., partly unsurveyed,

sec. 32, N1/2, NE1/4SW1/4, W1/2SW1/4, and N1/2SE1/4, those portions lying southerly of the centerline of the Denali Highway;

tract A, that portion lying southerly of the centerline of the Denali Highway, excepting U.S. Survey No. 4425;

tract B, that portion encompassed by PLO No. 1490 and that portion lying southerly of the centerline of the Denali Highway.

T. 21 S., R. 10 E., unsurveyed,

secs. 25 and 31, and secs. 33 thru 36, those portions lying southerly of the centerline of the Denali Highway.

T. 22 S., R. 11 E., unsurveyed,

secs. 25 and 36.

Seward Meridian, Alaska

T. 32 N., R.1 E., unsurveyed,

secs. 11 thru 15;

sec. 16, excepting U.S. Survey No. 4917;

secs. 20 thru 29 and secs. 35 and 36.

T. 33 N., R. 1 E., unsurveyed,

secs. 13 and 24.

T. 32 N., R. 2 E., unsurveyed,

sec. 19;

sec. 20, excepting U.S. Survey No. 4918;

sec. 21 and secs. 28 thru 31.

T. 33 N., R. 2 E., unsurveyed,

secs. 16 thru 21 and sec. 29.

T. 29 N., R. 3 E., unsurveyed,

secs. 1 thru 3 and secs. 9 thru 36.

T. 30 N., R. 4 E., unsurveyed,

secs. 11 thru 14, secs. 23 thru 26, and secs. 35 and 36.

T. 31 N., R. 7 E., unsurveyed,

sec. 2, that portion within Power Site Classification No. 443 on the left bank of the Susitna River;

sec. 3, that portion lying north of the left bank of the Susitna River;

sec. 12, that portion within Power Site Classification No. 443 lying north of the left bank of the Susitna River.

T. 32 N., R. 7 E., unsurveyed,

sec. 32, that portion within Power Site Classification No. 443 lying north of the left bank of the Susitna River.

T. 30 N., R. 9 E., unsurveyed,

sec. 1, that portion within Power Site Classification No. 443.

T. 29 N., R. 11 E., unsurveyed,

secs. 1 thru 7 and secs. 9, 10, and 16, those portions lying within Power Site Classification No. 443.

T. 30 N., R. 11 E., unsurveyed,

secs. 25, 26, 34, 35, and 36, those portions lying within Power Site Classification No. 443.

T. 30 N., R. 12 E., unsurveyed,

secs. 3 and 4;

sec. 8, that portion lying within Power Site Classification No. 443;

secs. 9, 10, 15, and 16;

secs. 17 thru 24 and secs. 29 thru 32, those portions within Power Site Classification No. 443.

T. 31 N., R. 12 E., unsurveyed,

secs. 1 thru 4, secs. 9, 10, 11, 16, 21, and 28, those portions within Power Site Classification No. 443;

sec. 33.

T. 32 N., R. 12 E., unsurveyed,

secs. 1 and 2, secs. 8 thru 11, and secs. 13 thru 16, those portions within Power Site Classification No. 443;

secs. 24 and 25;

secs. 26, 33, 34, and 35, those portions within Power Site Classification No. 443;

sec. 36.

T. 31 N., R. 1 W., unsurveyed,

secs. 28 thru 33.

T. 33 N., R. 1 W., unsurveyed.

secs. 33 and 34.

The areas described aggregate approximately 479,649.71 acres.

The areas described aggregate a total of approximately 812,956.96 acres.

2. At 8 a.m. Alaska time on September 8, 2023, the lands described in Paragraph 1 shall be open to allotment selection under the Allotment Program, subject to valid existing rights. All valid allotment applications received at or prior to 8 a.m. Alaska time on September 8, 2023, shall be considered as simultaneously filed at that time. Those received thereafter shall be considered in accordance with 43 CFR 2569.502.

3. No lands are opened by this order for any purpose other than allotment selection and possible conveyance under the Allotment Program.

4. No lands are opened by this order that are within 500 feet of the Iditarod National Historic Trail, or within ¼ mile of cultural resource sites, including lands applied for by regional corporations pursuant to ANCSA section 14(h)(1) and known cultural resources sites identified in the Allotment Program EA. The exact locations of these sites are withheld to limit the risk of harm to the cultural resource or site where the resource is located. If an applicant is interested in a particular location, they should contact the BLM in order to ensure that their application does not overlap with areas excluded from this PLO as a result of known cultural resource sites or the Iditarod National Historic Trail.

(Authority: 43 U.S.C. 1714.)

Deb Haaland,
Secretary of the Interior.

[FR Doc. 2023-16979 Filed 8-8-23; 8:45 am]

BILLING CODE 4331-10-P